NEIGHBORHOOD REINVESTMENT CORPORATION

Sunshine Act Meetings; Regular Board of Directors Meeting

TIME AND DATE: 2:00 p.m., Tuesday, April 16, 2019.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552(b)(2) and (4) permit closure of the following portion(s) of this meeting:

• Report from CEO

Agenda

I. Call to Order

II. Approval of Minutes

III. Executive Session: Report from CEO

IV. Action Item FY2019 Final Budget

V. Action Item Delegation of Authority

VI. Action Item Audio Visual/Computer Equipment

VII. Management Program Background and Updates

VIII. Adjournment

CONTACT PERSON FOR MORE INFORMATION: Rutledge Simmons, EVP & General Counsel/Secretary, (202) 760-4105; Rsimmons@nw.org.

Rutledge Simmons,
EVP & General Counsel/Corporate Secretary.

[FR Doc. 2019-06578 Filed 4-1-19; 4:15 pm]

BILLING CODE 7570-02-P